DEPARTMENT OF COMMERCE

National Oceanic and Atmospheric Administration

50 CFR Part 648

RIN 0648-BA23

Magnuson-Stevens Fishery Conservation and Management Act Provisions; Fisheries of the Northeastern United States; Annual Catch Limits and Accountability Measures

AGENCY: National Marine Fisheries Service (NMFS), National Oceanic and Atmospheric Administration (NOAA), Commerce.

ACTION: Availability of proposed fishery management plan amendments; request for comments.

SUMMARY: NMFS announces that the Mid-Atlantic Fishery Management Council (Council) has submitted an omnibus amendment containing the following amendments to implement annual catch limits (ACLs) and accountability measures (AMs) for Council managed resources: Amendment 13 to the Atlantic Mackerel, Squids, and Butterfish FMP; Amendment 3 to the Atlantic Bluefish FMP; Amendment 2 to the Spiny Dogfish FMP; Amendment 15 to the Summer Flounder, Scup, and Black Sea Bass FMP; Amendment 16 to the Surfclam and Ocean Quahog FMP, and Amendment 3 to the Tilefish FMP. These amendments, hereafter referred to as the Omnibus Amendment, have been submitted for review by the Secretary of Commerce (Secretary) for conformance with the FMPs, FMP amendments, the Magnuson-Stevens Fishery Conservation and Management Act (Magnuson-Stevens Act), and other applicable laws. In turn, as part of the Secretarial review process, NMFS is requesting comments on the Omnibus Amendment from the public.

DATES: Comments must be received on or before July 22, 2011.

ADDRESSES: You may submit comments, identified by RIN 0648-BA23, by any one of the following methods:

• Electronic Submissions: Submit all electronic public comments via the Federal eRulemaking Portal http://www.regulations.gov.

• Fax: (978) 281-9135.

• Mail and hand delivery: Patricia A. Kurkul, Regional Administrator, NMFS, Northeast Regional Office, 55 Great Republic Drive, Gloucester, MA 01930. Mark the outside of the envelope: Comments on Mid-Atlantic ACL/AM Omnibus Amendment.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

Copies of the draft Omnibus Amendment document, including the Environmental Assessment and Regulatory Impact Review (EA/RIR) and other supporting documents for the Omnibus Amendment are available from Dr. Christopher M. Moore, Executive Director, Mid-Atlantic Fishery Management Council, Suite 201, 800 North State Street, Dover, DE 19901. The draft Omnibus Amendment, as submitted to NMFS by the Council, is also accessible via the Internet at http://www.nero.noaa.gov.

FOR FURTHER INFORMATION CONTACT: Michael Ruccio, Fishery Policy Analyst, (978) 281-9104.

SUPPLEMENTARY INFORMATION: The Magnuson-Stevens Act requires that each Regional Fishery Management Council submit any FMP amendment it prepares to NMFS for review and approval, disapproval, or partial approval. The Magnuson-Stevens Act also requires that NMFS, upon receiving an FMP amendment, publish a notice in the Federal Register that the amendment is available for public review and comment.

Background

The Magnuson-Stevens Fishery Conservation and Management Reauthorization Act of 2006 (MSRA) amended the Magnuson-Stevens Act to include new requirements for ACLs and AMs and the formal incorporation of scientific advice provided to Regional Fishery Management Councils from their respective Scientific and Statistical Committees (SSCs).

The Council conducted public scoping and development of the Omnibus Amendment in 2009 and 2010. The development process included several meetings of the full Council, joint meetings with the Council and Atlantic States Marine Fisheries Commission, the Council's SSC and its scientific uncertainty subcommittee, the Omnibus Amendment Fishery Management Action Team, and public hearings. Now, the Council has submitted the Omnibus Amendment for Secretarial review, approval as needed, and implementation. The Omnibus Amendment is necessary to bring all Council FMPs into compliance with the requirements of the Magnuson-Stevens Act. The intent is to establish a comprehensive framework for all Council FMPs to more formally receive and utilize scientific recommendations in the establishment of annual catch levels, to establish a system to derive ACLs with AM backstops from that scientific advice, and to establish processes for revisiting and modifying the measures that would be established by the respective FMP amendments so that overfishing is prevented, stocks are rebuilt, and Optimum Yield (OY) may be achieved for all managed stocks.

If approved by NMFS, this amendment would establish Acceptable Biological Catch (ABC) control rules for use by the Council's SSC in recommending ABC to the Council; a risk policy for use in conjunction with the ABC control rules to inform the SSC of the Council's preferred tolerance for the risk of overfishing a stock; ACLs for all Council-managed stocks except Loligo and Illex squids, which are exempt from the ACL/AM requirements due to annual life cycles; comprehensive AMs for all established ACLs; descriptions of the process to review ACL and AM performance; and establishment of processes to modify the measures to be implemented through the Omnibus Amendment.

Public comments are being solicited on the Council's Omnibus Amendment and its incorporated documents through the end of the comment period stated in this notice of availability. A proposed rule that would implement the Omnibus Amendment's measures if approved, will be published in the Federal Register for public comment, following NMFS's evaluation of the proposed rule under the procedures of the Magnuson-Stevens Act. Public comments on the proposed rule must be received by the end of the comment period provided in this notice of availability of the Omnibus Amendment to be considered in the approval/disapproval decision on the amendment. All comments received by July 22, 2011, whether specifically directed to the Omnibus Amendment or the proposed rule, will be considered by NMFS in the approval/disapproval decision on the Omnibus Amendment. In reviewing, approving, and implementing Council-recommended amendment actions, NMFS is constrained to approval, disapproval, or partial approval only.

Comments received after the specified date will not be considered in the decision to approve, partially approve, or disapprove the Omnibus Amendment. To be considered, comments must be received by close of business on the last day of the comment period; that does not mean postmarked or otherwise transmitted by that date.

Authority: 16 U.S.C. 1801 et seq.

Dated: May 17, 2011,
Margo Schulze-Haugen,
Acting Director, Office of Sustainable Fisheries, National Marine Fisheries Service.

[FR Doc. 2011-12665 Filed 5-23-11; 8:45 am]

BILLING CODE 3510-22-P